DEPARTMENT OF TRANSPORTATION

Federal Aviation Administration

14 CFR Part 71

[Docket No. FAA-2004-17429; Airspace Docket No. 04-ACE-28]

Modification of Class E Airspace; Scottsbluff, NE

AGENCY: Federal Aviation Administration (FAA), DOT.

ACTION: Direct final rule; request for comments.

SUMMARY: This action amends Title 14 Code of Federal Regulations, part 71 (14 CFR 71) by revising Class E airspace areas at Scottsbluff, NE. William B. Heilig Field has been renamed Western Nebraska Regional Airport/William B. Heilig Field and its airport reference point (ARP) revised. The Scottsbluff Class E airspace surface area and Class E airspace area extending upward from 700 feet above the surface (AGL) are each expanded and the extensions to these airspace areas eliminated and/or redefined. The effect of this rule is to provide controlled airspace of appropriate dimensions for aircraft departing and executing instrument approach procedures (IAPs) at Western Nebraska Regional Airport/William B. Heilig Field, to replace “William B. Heilig Field” with “Western Nebraska Regional Airport/William B. Heilig Field” in the legal description of Scottsbluff, NE Class E airspace areas, to incorporate the correct ARP and to bring the Scottsbluff, NE Class E airspace areas and their legal descriptions into compliance with FAA Orders.

DATES: This direct final rule is effective on 0901 UTC, September 30, 2004. Comments for inclusion in the Rules Docket must be received on or before July 29, 2004.

ADDRESSES: Send comments on this proposal to the Docket Management System, U.S. Department of Transportation, Room Plaza 401, Seventh Street, SW., Washington, DC 20590-0001. You must identify the docket number FAA-2004-17429/Airspace Docket No. 04-ACE-28, at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION: This amendment to 14 CFR 71 modifies the Class E surface area and the Class E airspace area extending upward from 700 feet AGL at Scottsbluff, NE. William B. Heilig Field has been renamed Western Nebraska Regional Airport/William B. Heilig Field and its ARP revised. Neither airspace area complies with airspace requirements for diverse departures as set forth in FAA Order 7400.2E, Procedures for Handling Airspace Matters. Extensions to both airspace area are eliminated and/or redefined in order to comply with FAA Order 8260.19C, Flight Procedures and Airspace. “William B. Heilig Field” is replaced with “Western Nebraska Regional Airport/William B. Heilig Field” in the legal descriptions of Scottsbluff, NE Class E airspace areas and the ARP amended to reflect current data. The Scottsbluff, NE Class E surface area is increased from a 4.5-mile radius to a 5.3-mile radius of Western Nebraska Regional Airport/William B. Heilig Field, thereby complying with requirements for diverse departures and eliminating the need for extensions.

The Class E airspace area extending upward from 700 feet above the surface is increased from a 6.8-mile radius to a 7.8-radius of Western Nebraska Regional Airport/William B. Heilig Field in order to comply with the criteria for 700 feet AGL airspace required for diverse departures. The east extension of this airspace area is redefined as extending 7 miles east of the Scottsbluff collocated very high frequency omni-directional radio range and tactical air navigational aid (VORTAC) versus the current 11.2 miles and its width reduced to from 4 miles south and 6 miles north to 2.5 five miles each side of the VORTAC 078° radial. The southeast extension is no longer required and its therefore eliminated. The west extension of this airspace area is lengthened .2 miles and redefined as 2.5 miles each side of the Scottsbluff VORTAC 256° radial versus the current 4 miles each side. The northwest extension is redefined in relation to the Gering nondirectional radio beacon (NDB), is reduced in length by 2.4 miles and reduced in width from 4 miles southwest and 6 miles northeast to 2.5 five miles each side of the 317° bearing from the Gering NDB.

These modifications bring the legal descriptions of the Scottsbluff, NE Class E airspace areas into compliance with FAA Orders 7400.2E and 8260.19C. Class E airspace areas designated as surface areas are published in Paragraph 6002 of FAA Order 7400.9L, Airspace Designations and Reporting Points, dated September 2, 2003, and effective September 16, 2003, which is incorporated by reference in 14 CFR 71.1. Class E airspace areas extending upward from 700 feet or more above the surface of the earth are published in Paragraph 6005 of the same Order. The Class E airspace designations listed in this document would be published subsequently in the Order.

The Direct Final Rule Procedure

The FAA anticipates that this regulation will not result in adverse or negative comment and, therefore, is issuing it as a direct final rule. Previous actions of this nature have not been controversial and have not resulted in adverse comments or objections. Unless a written adverse or negative comment, or a written notice of intent to submit an adverse or negative comment is received within the comment period, the regulation will become effective on the date specified above. After the close of the comment period, the FAA will publish a document in the Federal Register indicating that no adverse or negative comments were received and confirming the date on which the final rule will become effective. If the FAA does receive, within the comment period, and adverse or negative comment, or written notice of intent to submit such a comment, a document withdrawing the direct final rule will be published in the Federal Register, and a notice of proposed rulemaking may be published with a new comment period.

Comments Invited

Interested parties are invited to participate in this rulemaking buy submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2004-17429/Airspace Docket No. 04-ACE-28.” The postcard will be date/time stamped and returned to the commenter.

Agency Findings

The regulations adopted herein will not have a substantial direct effect on the States, on the relationship between the national Government and the States, or on the distribution of power and responsiblietis among the various levels of government. Therefore, it is determined that this final rule does not have federalism implications under Executive Order 13132.

The FAA has determined that this regulation is noncontroversial and unlikely to result in adverse or negative comments. For the reasons discussed in the preamble, I certify that this regulation (1) is not a “significant regulatory action” under Executive Order 12866; (2) is not a “significant rule” under Department of Transportation (DOT) Regulatory Policies and Procedures (44 FR 11034, February 26, 1979); and (3) if promulgated, will not have a significant economic impact, positive or negative, on a substantial number of small entities under the criteria of the Regulatory Flexibility Act.

List of Subjects in 14 CFR Part 71

Airspace, Incorporation by reference, Navigation (air).

Adoption of the Amendment

Accordingly, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9L, dated September 2, 2003, and effective September 16, 2003, is amended as follows:

Paragraph 6002 Class E Airspace Designated as Surface Areas.

* * * * *

ACE NE E2 Scottsbluff, NE

Scottsbluff, Western Nebraska Regional Airport/William B. Heilig Field, NE (lat. 41°52′27″ N., long. 103°35′44″ W.)

Within a 5.3-mile radius of Western Nebraska Regional Airport/William B. Heilig Field.

* * * * *

Paragraph 6005 Class E airspace areas extending upward from 700 feet or more above the surface of the earth.

* * * * *

ACE NE E5 Scottsbluff, NE

Scottsbluff, Western Nebraska Regional Airport/William B. Heilig Field, NE (lat. 41°52′27″ N., long. 103°35′44″ W.)

Scottsbluff VORTAC

(lat. 41°53′39″ N., long. 103°28′55″ W.)

Gering NDB

(lat. 41°56′40″ N., long. 103°40′59″ W.)

That airspace extending upward from 700 feet above the surface within a 7.8 radius of Western Nebraska Regional Airport/William B. Heilig Field and within 2.5 miles each side of the Scottsbluff VORTAC 078° radial extending from the 7.8-mile radius of the airport to 7 miles east of VORTAC and within 2.5 miles each side of the VORTAC 256° radial extending from the 7.8-mile radius of the airport to 17.2 miles west of VORTAC and within 2.5 miles each side of the 317° bearing from the Gering NDB extending from the 7.8-mile radius of the airport to 7 miles northwest of the NDB.

* * * * *

Issued in Kansas City, MO, on May 25, 2004.
Paul J. Sheridan,
Acting Manager, Air Traffic Division, Central Region.

[FR Doc. 04-12983 Filed 6-8-04; 8:45 am]

BILLING CODE 4910-13-M